DEPARTMENT OF ENERGY

Federal Energy Regulatory Commission

[Project No. P-2244-022]

Energy Northwest; Notice of Application Ready for Environmental Analysis and Soliciting Comments, Recommendations, Terms and Conditions, and Prescriptions

June 19, 2008.

Take notice that the following hydroelectric application has been filed with the Commission and is available for public inspection.

a. Type of Application: New Major License.

b. Project No.: P-2244-022.

c. Date filed: February 25, 2008.

d. Applicant: Energy Northwest.

e. Name of Project: Packwood Lake Hydroelectric Project.

f. Location: The existing project is on Lake Creek, a tributary to Cowlitz River, in Lewis County in southwestern Washington near the unincorporated town of Packwood. The upper portion of the lake lies within the Goat Rocks Wilderness Area. The project occupies 511.65 acres of United States Forest Service land, 23.66 acres of Energy Northwest-owned land, 8.78 acres of Washington State lands, and 1.52 acres of Lewis County Public Utility District lands.

g. Filed Pursuant to: Federal Power Act 16 U.S.C. 791 (a)-825(r).

h. Applicant Contact: Jack W. Baker, Vice President, Energy Northwest, Mail Drop 1035, P.O. Box 968, Richland, WA 99352-0968; telephone (509) 377-5078, or e-mail at jwbaker@energy-northwest.com; or D.L. Ross, Energy Northwest, Mail Drop 1030, P.O. Box 968, Richland, WA 99352-0968.

i. FERC Contact: Kenneth Hogan, telephone (202) 502-8464, or e-mail at kenneth.hogan@ferc.gov.

j. The deadline for filing comments, recommendations, terms and conditions, and prescriptions is 60 days from the issuance of this notice (August 18, 2008) reply comments are due 105 days from the issuance date of this notice (October 2, 2008).

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is ready for environmental analysis at this time.

l. Project description: The existing project consists of the following: (1) An intake canal, a concrete drop structure (dam), intake building on Lake Creek located about 424 feet downstream from the outlet of Packwood Lake, a 21,691-foot system of concrete pipe and tunnels, a 5,621-foot penstock, a surge tank, and a powerhouse with a 26.1-megawatt turbine generator; (2) a 452-acre reservoir (Packwood Lake) at a normal full pool elevation of 2,857 feet above mean sea level with approximately 4,162 acre-feet of usable storage; and (3) appurtenant facilities. The average annual generation at the project is about 90,998 megawatt-hours.

The applicant proposes a modified reservoir operational regime and higher instream flow releases to the bypassed reach on Lake Creek. Several other proposed measures for the project include: (1) Developing and implementing a stream restoration and enhancement plan in the anadromous zone in lower Lake Creek; (2) improving fish passage on Snyder Creek where it crosses the tailrace canal; (3) maintaining and monitoring of tailrace fish barrier; and (4) developing and implementing numerous resource protection and enhancement plans.

m. A copy of the application is available for review at the Commission in the Public Reference Room or may be viewed on the Commission's Web site at http://www.ferc.gov using the “eLibrary link”. Enter the docket number excluding the last three digits in the docket number field to access the document. For assistance, contact FERC Online Support at FERCOnlineSupport@ferc.gov or toll-free at 1-866-208-3676, or for TTY, (202) 502-8659. A copy is also available for inspection and reproduction at the address in item h above.

All filings must: (1) Bear in all capital letters the title “COMMENTS”, “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Kimberly D. Bose,
Secretary.

[FR Doc. E8-14452 Filed 6-25-08; 8:45 am]

BILLING CODE 6717-01-P